ENVIRONMENTAL PROTECTION AGENCY

Regional Docket Nos. II-2002-01, -02 FRL-7552-1]

Clean Air Act Operating Permit Program; Petitions for Objection to State Operating Permits for the Dunkirk Steam Generating Station; the Huntley Generating Station

AGENCY: Environmental Protection Agency (EPA).

ACTION: Notice of final orders on petitions to object to two State operating permits.

SUMMARY: This document announces that the EPA Administrator has responded to two citizen petitions asking EPA to object to operating permits issued to two facilities by the New York State Department of Environmental Conservation (NYSDEC). Specifically, the Administrator has partially granted and partially denied each of the petitions submitted by the New York Public Interest Research Group (NYPIRG) to object to each of the State operating permits issued to the following facilities: Dunkirk Steam Generating Station in Dunkirk, NY, and Huntley Generating Station in Tonawanda, NY.

Pursuant to section 505(b)(2) of the Clean Air Act (Act), Petitioner may seek judicial review of those portions of the petitions which EPA denied in the United States Court of Appeals for the appropriate circuit. Any petition for review shall be filed within 60 days from the date this notice appears in the Federal Register, pursuant to section 307 of the Act.

ADDRESSES: You may review copies of the final orders, the petitions, and other supporting information at the EPA Region 2 Office, 290 Broadway, New York, New York 10007-1866. If you wish to examine these documents, you should make an appointment at least 24 hours before visiting day. Additionally, the final orders for the Dunkirk Steam Generating Station, and the Huntley Generating Station are available electronically at: http://www.epa.gov/region07/programs/artd/air/title5/petitiondb/petitiondb2002.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

I. Dunkirk Steam Generating Station

On January 11, 2002, the EPA received a petition from NYPIRG, requesting that EPA object to the issuance of the title V operating permit for Dunkirk Steam Generating Station. The petition raises issues regarding the permit application, the permit issuance process, and the permit itself. NYPIRG asserts that: (1) The permit lacks a compliance schedule to address notices of violations issued for alleged opacity violations and violations under the Prevention of Significant Deterioration of Air Quality (PSD) regulations; (2) DEC improperly denied NYPIRG's request for a public hearing on the permit; (3) the permit is based on an incomplete permit application in violation of 40 CFR 70.5(c); (4) the permit distorts annual certification requirements; (5) the permit does not require prompt reporting of any deviations from permit requirements as mandated by 40 CFR 70.6(a)(3)(iii)(B); (6) the permit's startup/shutdown, malfunction, maintenance, and upset provision violates part 70; (7) the permit fails to include federally enforceable emission limits established under pre-existing permits; and (8) the permit lacks monitoring sufficient to assure the facility's compliance with all applicable requirements.

On July 31, 2003, the Administrator issued an order partially granting and partially denying the petition on the Dunkirk Steam Generating Station. The order explains the reasons behind EPA's conclusion that the NYSDEC must reopen the permit to: (1) Move a startup/shutdown, malfunction, maintenance, and upset provision from the federal side to the State-side of the permit; (2) either incorporate into the title V permits provisions from pre-existing permits, or delete such applicable requirements by following the requisite public participation procedures (pre-existing permit conditions relating to the ash silo, spray paint booth, emergency generators, amount of sludge burned, and boilers 1 through 4); and (3) establish and monitor operating parameters at each electrostatic precipitator to assure compliance of particulate matter emissions from the facility boilers. The order also explains the reasons for denying NYPIRG's remaining claims.

II. Huntley Generating Station

On January 7, 2002, the EPA received a petition from NYPIRG, requesting that EPA object to the issuance of the title V operating permit for the Huntley Generating Station. NYPIRG raises each of the above eight issues in its petition for the Huntley Generating Station, as well. In addition, NYPIRG raises three additional issues in the petition for the Huntley Generating Station: (1) The permit lacks federally enforceable conditions that govern the procedures for permit renewal; (2) the permit inappropriately placed compliance requirements that pertain to the ash silo in the State-only side of the permit; and (3) the proposed permit improperly describes the annual compliance certification process. On July 31, 2003, the Administrator issued an order partially granting and partially denying the petition. The order explains the reasons behind EPA's conclusion that the NYSDEC must reopen the permit to: (1) Incorporate into the permit prompt reporting of violations relating to boiler particulate matter requirements; (2) move a startup/shutdown, malfunction, maintenance, and upset provision from the federal side to the State-side of the permit; (3) either incorporate into the title V permits provisions from pre-existing permits, or delete such requirements by following the requisite public participation procedures (pre-existing permit conditions relating to the facility boilers, welding booths and tables, and the wastewater treatment plant lime silo); (4) incorporate additional parametric monitoring of particulate matter emissions from the facility boilers; and (5) incorporate additional monitoring, recordkeeping and reporting of fugitive particulate matter emissions from the coal handling processes. The order also explains the reasons for denying NYPIRG's remaining claims.

Dated: August 8, 2003.
William J. Muszynski,
Acting Regional Administrator, Region 2.

[FR Doc. 03-22316 Filed 8-29-03; 8:45 am]

BILLING CODE 6560-50-P